DEPARTMENT OF AGRICULTURE

Submission for OMB Review; Comment Request

March 15, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Report of School Program Operations.

OMB Control Number: 0584-0002.

Summary of Collection: The Food and Nutrition Service administers the National School Lunch Program, the School Breakfast Program, and the Special Milk Program as mandated by the National School Lunch Act, as amended, and the Child Nutrition Act of 1966, as amended. Information on school program operations is collected from state agencies on a monthly basis to monitor and make adjustments to State agency funding requirements. FNS uses form FNS-10 to collect data although 98 percent of the information is collected through electronic means.

Need and Use of the Information: FNS collects quantity information from State agencies on the number of meals served under the various food programs. Information is categorized in a number of areas and States are asked to provide their estimates along with actual data. FNS uses the information collected on school operations to assess the progress of the various programs and to make monthly adjustments to State agency funding requirements. If the information was not collected, FNS would be unable to monitor the proper use of program funds.

Description of Respondents: State, Local, or Tribal Government.

Number of Respondents: 62.

Frequency of Responses: Reporting: Monthly; Annually.

Total Burden Hours: 95,232.

Food and Nutrition Service

Title: Report of the Child and Adult Care Food Program.

OMB Control Number: 0584-0078.

Summary of Collection: Section 17 of the National School Lunch Act, as amended, mandates the Child and Adult Care Food Program. Program implementation is contained in 7 CFR part 226. The Food and Nutrition Service (FNS) collections information using Form FNS-44 to use in managing the Child and Adult Care Food Program. This report is vital since it is the only means by which FNS can obtain current information necessary to make payments to State agency letters of credit, and to plan for future levels of program funding.

Need and Use of the Information: FNS will collect information in order to analyze progress in the program and to make monthly adjustments to State agency funding requirements. If data is not collected FNS would be unable to monitor the proper use of program funds.

Description of Respondents: State, Local or Tribal Government.

Number of Respondents: 53.

Frequency of Responses: Reporting: Quarterly; Semi-annually; Monthly.

Total Burden Hours: 5,724.

Ruth Brown,
Departmental Information Collection Clearance Officer.

[FR Doc. E6-3923 Filed 3-16-06; 8:45 am]

BILLING CODE 3410-30-P